DEPARTMENT OF THE INTERIOR

Bureau of Land Management

[OR-090-5900 GP2-0103]

Notice of Intent to Prepare an Environmental Impact Statement Within the Upper Siuslaw River Sub-Unit of a Late-Successional Reserve on Lands Administered by the Eugene District in Lane and Douglas Counties, OR

AGENCY: Bureau of Land Management, Interior.

ACTION: Notice of intent to prepare an environmental impact statement (EIS).

SUMMARY: The Eugene District of the Bureau of Land Management (BLM), with the U.S. Fish and Wildlife Service as a Cooperating Agency, is developing a plan for forest and aquatic ecosystem restoration within a Late-Successional Reserve (LSR) in the Coast Range Mountains west of Eugene, Oregon (LSR-267). The purpose of the plan will be to design a long-term management approach and specific actions needed to achieve the LSR goals and Aquatic Conservation Strategy objectives set out in the Northwest Forest Plan. BLM will develop a restoration plan for the Upper Siuslaw River sub-unit of LSR-267, and will analyze the impacts of the proposed plan and alternatives in an EIS.

BLM invites written comments on the scope of the analysis for a restoration plan for the Upper Siuslaw River sub-unit of LSR-267. BLM will give notice of the availability of the environmental impact statement and decision-making process that will occur so that interested and affected people will be aware of how they may participate and contribute to the final decision. These notices will be published in local newspapers and mailed to known persons or groups of interest in the local area.

The Upper Siuslaw LSR Restoration plan is intended to be developed in conformance with the 1995 Eugene District Resource Management Plan (RMP). This plan is not expected to require any amendment or revision of the RMP, and therefore the provisions of 43 CFR 1610.5-5 and 1610.6 do not apply.

DATES: Comments concerning the scope of the analysis should be received in writing by November 8, 2002, to ensure timely consideration. Comments, including names and street addresses of respondents, will be available for public review at the Eugene District office during regular hours (7:45 a.m. to 4:15 p.m.), Monday through Friday, except holidays, and may be published as part of the environmental analysis or other related documents. Individual respondents may request confidentiality. If you wish to withhold your name or address from public review or from disclosure under the Freedom of Information Act, you must state this prominently at the beginning of your written comment. Such requests will be honored to the extent allowed by law. All submissions from organizations or businesses, and from individuals identifying themselves as representatives or officials of organization or businesses, will be made available for public inspection in their entirety.

ADDRESSES: Send written comments to: Rick Colvin, P.O. Box 10226, Eugene, OR, 97440; or e-mail to: or090mb@or.blm.gov Attn: Rick Colvin.

FOR FURTHER INFORMATION CONTACT: Rick Colvin at (541) 683-6600 or 1-888-442-3061.

SUPPLEMENTARY INFORMATION: The 1994 Northwest Forest Plan established a network of Late-Successional Reserves (LSRs) designed to protect and enhance late-successional and old-growth forest ecosystems on Federal forests within the range of the northern spotted owl. The Northwest Forest Plan allows certain activities within LSRs if they are neutral or beneficial to late-successional habitat characteristics. The Northwest Forest Plan requires preparation of an LSR Assessment prior to most management actions. The LSR Assessment for the planning area was completed in 1997.

Silvicultural treatments, including thinning and underplanting, may speed the development of late-successional forest structural characteristics and may improve habitat conditions for threatened and endangered species, including the northern spotted owl and marbled murrelet. Aquatic restoration may be accelerated by creation of in-stream habitat structures, riparian thinning to restore large conifers, and improved road management, including culvert replacement. Additional information on the role of active management in restoring late-successional forest characteristics and healthy aquatic ecosystems is available in the Northwest Forest Plan and supporting documents and in the watershed analysis and LSR Assessment for this planning area.

The Upper Siuslaw LSR Restoration plan will address management of the approximately 25,000 acres of BLM-managed lands within LSR 267 in the upper portion of the Siuslaw River fifth-field watershed. Intermingled with these federal lands are privately-owned lands.

In preparing the EIS, BLM will identify and consider a range of management actions including commercial and non-commercial forest thinning, snag and coarse woody debris creation, road decommissioning, culvert replacement, and in-stream habitat restoration. A No Action alternative which would involve no active management will be analyzed in detail. Other preliminary alternatives include: Continuation of the current management approach; restoration limited to forest plantations and road management, with no commercial timber harvest; restoration focused on recovery of threatened and endangered species; restoration that would reduce forest stand densities as quickly as possible; restoration based on multi-entry and multi-trajectory thinning.

Preliminary issues identified include:

—How would thinning affect development of late-successional forest habitat characteristics?

—What are the effects of restoration activities on the northern spotted owl, marbled murrelet, and coho salmon habitat?

—What level of risk to existing late-successional forest would result from restoration activities?

—How would actions meet the objectives of the Aquatic Conservation Strategy?

—How much new road construction would be needed to implement restoration actions?

—How would road decommissioning and road management actions alter public access to BLM lands?

—How would restoration actions affect the presence and spread of noxious weeds?

—What would be the economic effects of restoration activities?

—What would the restoration program cost?

Input from the scoping process will be used to determine the scope of the analysis, consistent with the requirements of 40 CFR 1501.7 and 1508.22. The scoping process includes:

—Defining the scope of the analysis and nature of the decision to be made;

—identifying the issues for consideration within the environmental impact statement;

—exploring possible alternatives;

—identifying potential environmental effects;

—identifying groups or individuals that would be interested in or affected by the proposed plan.

BLM is also interested in suggestions from the public about how they would like to be involved in the environmental analysis and decision-making process. BLM will seek information, comments, and assistance from Federal, State, and local agencies and other individuals or organizations interested in or affected by the proposed plan.

In August 2000, BLM mailed preliminary information to known persons or groups of interest in the local area. Since that time, BLM has also solicited public participation through a series of public meetings and field trips and plans to hold more meetings and field trips. BLM has also mailed a periodic newsletter about this LSR Restoration Project to known persons or groups of interest in the local area. In response to these efforts, BLM has received comments on the scope of the environmental analysis, possible alternatives, and issues for consideration. BLM will use those comments received prior to this notice together with comments received in response to this notice in determining the scope of the analysis.

The responsible official for this proposal is: Steven Calish, Field Manager, South Valley and Coast Range Resource Areas, Eugene District, BLM.

Julia Dougan,
District Manager.

[FR Doc. 02-25662 Filed 10-8-02; 8:45 am]

BILLING CODE 4310-AG-P